NUCLEAR REGULATORY COMMISSION

[Docket No. 50-331; NRC-2008-0618]

NextEra Energy Duane Arnold, LLC; Duane Arnold Energy Center; Notice of Issuance of Renewed Facility, Operating License No. DPR-49 for an Additional 20-Year Period

Notice is hereby given that the U.S. Nuclear Regulatory Commission (NRC, the Commission) has issued renewed facility operating license No. DPR-49 to NextEra Energy Duane Arnold, LLC (licensee), the operator of the Duane Arnold Energy Center (DAEC). Renewed facility operating license No. DPR-49 authorizes operation of DAEC by the licensee at reactor core power levels not in excess of 1912 megawatts thermal in accordance with the provisions of the DAEC renewed license and its technical specifications.

The notice also serves as the record of decision for the renewal of facility operating license No. DPR-49, consistent with Title 10 of the Code of Federal Regulations Section 51.103 (10 CFR 51.103). As discussed in the final Supplemental Environmental Impact Statement (FSEIS) for DAEC, dated October 2010, the Commission has considered a range of reasonable alternatives that included generation from coal fired generation, natural gas combined-cycle generation, combined alternative, and the no-action alternative. The factors considered in the record of decision can be found in the supplemental environmental impact statement (SEIS) for DAEC.

DAEC is a boiling-water reactor located in Palo, Iowa. The application for the renewed license complied with the standards and requirements of the Atomic Energy Act of 1954, as amended (the Act), and the Commission's regulations. As required by the Act and the Commission's regulations in 10 CFR chapter 1, the Commission has made appropriate findings, which are set forth in the license. Prior public notice of the action involving the proposed issuance of the renewed license and of an opportunity for a hearing regarding the proposed issuance of the renewed license was published in the Federal Register on February 17, 2009 (73 FR 67895).

For further details with respect to this action, see: (1) FPL Duane Arnold, LLC's license renewal application for Duane Arnold Energy Center dated September 30, 2008, as supplemented by letters dated through August 18, 2010; (2) the Commission's safety evaluation report (NUREG-1955), published in November 2010; (3) the licensee's updated safety analysis report; and (4) the Commission's final environmental impact statement (NUREG-1437, Supplement 42), for the Duane Arnold Energy Center, published in October 2010. These documents are available at the NRC's Public Document Room, One White Flint North, 11555 Rockville Pike, Rockville, Maryland 20852, and can be viewed from the NRC Public Electronic Reading Room at http://www.nrc.gov/reading-rm/adams.html.

Copies of renewed facility operating license No. DPR-49, may be obtained by writing to the U.S. Nuclear Regulatory Commission, Washington, DC 20555-0001, Attention: Director, Division of License Renewal. Copies of the Duane Arnold Energy Center safety evaluation report (NUREG-1955) and the final environmental impact statement (NUREG-1437, Supplement 42) may be purchased from the National Technical Information Service, U.S. Department of Commerce, Springfield, Virginia 22161 (http://www.ntis.gov), 703-605-6000, or Attention: Superintendent of Documents, U.S. Government Printing Office, P.O. Box 371954, Pittsburgh, PA 15250-7954 (http://www.gpoaccess.gov), 202-512-1800. All orders should clearly identify the NRC publication number and the requestor's Government Printing Office deposit account number or VISA or MasterCard number and expiration date.

Dated at Rockville, Maryland, this 16th day of December, 2010.
For The Nuclear Regulatory Commission.
Brian E. Holian,
Director, Division of License Renewal, Office of Nuclear Reactor Regulation.

[FR Doc. 2010-32830 Filed 12-28-10; 8:45 am]

BILLING CODE 7590-01-P